DEPARTMENT OF COMMERCE

International Trade Administration

[A-570-916]

Laminated Woven Sacks From the People's Republic of China: Final Results of Antidumping Duty Administrative Review; 2011-2012

AGENCY: Import Administration, International Trade Administration, Department of Commerce.

SUMMARY: On January 29, 2013, the Department of Commerce (the “Department”) published the Preliminary Results ¹ of the 2011-2012 administrative review of the antidumping duty order on laminated woven sacks (“sacks”) from the People's Republic of China (“PRC”). The period of review (“POR”) is August 1, 2011, through July 31, 2012. We gave interested parties an opportunity to comment on the Preliminary Results, but none were received. The final weighted-average dumping margin for the PRC-wide entity is listed in the “Final Results of Review” section below.

¹ See Laminated Woven Sacks From the People's Republic of China: Preliminary Results of Antidumping Duty Administrative Review; 2011- 2012, 78 FR 6069 (January 29, 2013) and accompanying Decision Memorandum (“Preliminary Results”).

DATES: Effective Date: March 29, 2013.

FOR FURTHER INFORMATION CONTACT: Irene Gorelik, AD/CVD Operations, Office 9, Import Administration, International Trade Administration, Department of Commerce, 14th Street and Constitution Avenue NW., Washington, DC 20230; telephone: (202) 482-6905.

SUPPLEMENTARY INFORMATION:

Background

On January 29, 2013, the Department published the Preliminary Results. We invited interested parties to comment on the Preliminary Results, but none were received. The Department has conducted this administrative review in accordance with section 751(a) of the Tariff Act of 1930, as amended (“the Act”).

Scope of the Order

The merchandise covered by the order is laminated woven sacks. Laminated woven sacks are bags or sacks consisting of one or more plies of fabric consisting of woven polypropylene strip and/or woven polyethylene strip, regardless of the width of the strip; with or without an extrusion coating of polypropylene and/or polyethylene on one or both sides of the fabric; laminated by any method either to an exterior ply of plastic film such as biaxially-oriented polypropylene (“BOPP”) or to an exterior ply of paper that is suitable for high quality print graphics; ² printed with three colors or more in register; with or without lining; whether or not closed on one end; whether or not in roll form (including sheets, lay-flat tubing, and sleeves); with or without handles; with or without special closing features; not exceeding one kilogram in weight. Laminated woven sacks are typically used for retail packaging of consumer goods such as pet foods and bird seed.

² “Paper suitable for high quality print graphics,” as used herein, means paper having an ISO brightness of 82 or higher and a Sheffield Smoothness of 250 or less. Coated free sheet is an example of a paper suitable for high quality print graphics.

Effective July 1, 2007, laminated woven sacks are classifiable under Harmonized Tariff Schedule of the United States (“HTSUS”) subheadings 6305.33.0050 and 6305.33.0080. Laminated woven sacks were previously classifiable under HTSUS subheading 6305.33.0020. If entered with plastic coating on both sides of the fabric consisting of woven polypropylene strip and/or woven polyethylene strip, laminated woven sacks may be classifiable under HTSUS subheadings 3923.21.0080, 3923.21.0095, and 3923.29.0000. If entered not closed on one end or in roll form (including sheets, lay-flat tubing, and sleeves), laminated woven sacks may be classifiable under other HTSUS subheadings including 3917.39.0050, 3921.90.1100, 3921.90.1500, and 5903.90.2500. If the polypropylene strips and/or polyethylene strips making up the fabric measure more than 5 millimeters in width, laminated woven sacks may be classifiable under other HTSUS subheadings including 4601.99.0500, 4601.99.9000, and 4602.90.0000. Although HTSUS subheadings are provided for convenience and customs purposes, the written description of the scope of the order is dispositive.

PRC-Wide Entity

In the Preliminary Results, the Department noted that Zibo Aifudi Plastic Packaging Co., Ltd. (“Aifudi”), the only company under review, was unresponsive to the Department's request for information and failed to provide the requested information by the deadline. Thus, we determined that Aifudi failed to establish its eligibility for a separate rate and, consequently, it was treated as part of the PRC-wide entity. As a result, the PRC-wide entity came under review. Further, we preliminarily applied adverse facts available to the PRC-wide entity because an element of the entity, Aifudi, failed to act to the best of its ability in complying with the Department's request for information in this review.³ After issuing the Preliminary Results, the Department did not receive any comments from interested parties. Therefore, for these final results, in accordance with section 776(a) and (b) of the Act, and as explained in more detail in the Preliminary Results, the Department continues to find that because Aifudi, as part of the PRC-wide entity, failed to submit any responses to the Department's questionnaire, it is appropriate to apply an adverse inference in selecting from the facts otherwise available to determine a margin for the PRC-wide entity and to assign to the PRC-wide entity the highest dumping margin on the record of any segment of this proceeding, i.e., 91.73 percent.⁴ Furthermore, as stated in the Preliminary Results, we continue to find that the 91.73 percent rate is both reliable and relevant, and continue to determine that it has probative value.⁵ Accordingly, we find that the rate of 91.73 percent, which is the current PRC-wide rate, is in accordance with the requirement of section 776(c) of the Act that secondary information be corroborated (i.e., that it have probative value). Thus, we have assigned this adverse facts available rate to exports of the subject merchandise from the PRC-wide entity, including Aifudi.

³ See Preliminary Results and accompanying Decision Memorandum at 1, 4-6.

⁴ See Laminated Woven Sacks from the People's Republic of China: Final Determination of Sales at Less Than Fair Value and Partial Affirmative Determination of Critical Circumstances, 73 FR 35646 (June 24, 2008); see also Laminated Woven Sacks From the People's Republic of China: Preliminary Results of the Second Administrative Review, 75 FR 81218 (December 27, 2010) unchanged in Laminated Woven Sacks From the People's Republic of China: Final Results of Second Antidumping Duty Administrative Review, 76 FR 21333 (April 15, 2011).

⁵ See Preliminary Results and accompanying Decision Memorandum at 6-7.

Final Results of Review

The Department determines that the following dumping margin exists for the period August 1, 2011, through July 31, 2012:

Exporter | Margin (percent)
PRC-Wide Entity (including Zibo Aifudi Plastic Packaging Co., Ltd.) | 91.73

Assessment

Upon issuance of the final results, the Department will determine, and U.S. Customs and Border Protection (“CBP”) shall assess, antidumping duties on all appropriate entries. The Department intends to issue assessment instructions to CBP 15 days after the date of publication of the final results of review. The Department recently announced a refinement to its assessment practice in non-market economy (“NME”) cases.⁶ Pursuant to this refinement in practice, for entries that were not reported in the U.S. sales databases submitted by companies individually examined during this review, the Department will instruct CBP to liquidate such entries at the NME-wide rate. In addition, if the Department determines that an exporter under review had no shipments of the subject merchandise, any suspended entries that entered under that exporter's case number (i.e., at that exporter's rate) will be liquidated at the NME-wide rate.⁷

⁶ See Non-Market Economy Antidumping Proceedings: Assessment of Antidumping Duties, 76 FR 65694 (October 24, 2011).

⁷ See id.

Cash Deposit Requirements

The following cash deposit requirements will be effective upon publication of the final results of this administrative review for all shipments of the subject merchandise from the PRC entered, or withdrawn from warehouse, for consumption on or after the publication date, as provided by section 751(a)(2)(C) of the Act: (1) For previously investigated or reviewed PRC and non-PRC exporters not listed above that have separate rates, the cash deposit rate will continue to be the exporter-specific rate published for the most recent period; (2) for all PRC exporters of subject merchandise which have not been found to be entitled to a separate rate, the cash deposit rate will be the PRC-wide rate of 91.73 percent; and (3) for all non-PRC exporters of subject merchandise which have not received their own rate, the cash deposit rate will be the rate applicable to the PRC exporters that supplied that non-PRC exporter. These deposit requirements, when imposed, shall remain in effect until further notice.

Notifications

This notice serves as a final reminder to importers of their responsibility under 19 CFR 351.402(f)(2) to file a certificate regarding the reimbursement of antidumping duties prior to liquidation of the relevant entries during this POR. Failure to comply with this requirement could result in the Department's presumption that reimbursement of antidumping duties has occurred and the subsequent assessment of doubled antidumping duties.

This notice also serves as a reminder to parties subject to the administrative protective order (“APO”) of their responsibility concerning the disposition of proprietary information disclosed under APO in accordance with 19 CFR 351.305(a)(3). Timely notification of the destruction of APO materials or conversion to judicial protective order is hereby requested. Failure to comply with the regulations and the terms of an APO is a sanctionable violation.

We are issuing and publishing these results and this notice in accordance with sections 751(a)(1) and 777(i) of the Act.

Dated: March 25, 2013.
Paul Piquado,
Assistant Secretary for Import Administration.

[FR Doc. 2013-07407 Filed 3-28-13; 8:45 am]

BILLING CODE 3510-DS-P